DEPARTMENT OF JUSTICE

Antitrust Division

Notice Pursuant to the National Cooperative Research and Production Act of 1993; IMS Global Learning Consortium, Inc.

Notice is hereby given that, on September 6, 2011, pursuant to Section 6(a) of the National Cooperative Research and Production Act of 1993, 15 U.S.C. 4301 et seq. (“the Act”), INS Global Learning Consortium, Inc. has filed written notifications simultaneously with the Attorney General and the Federal Trade Commission disclosing changes in its membership. The notifications were filed for the purpose of extending the Act's provisions limiting the recovery of antitrust plaintiffs to actual damages under specified circumstances. Specifically, Lightbox Education, Cheadle, United Kingdom; UMassOnline, The University of Massachusetts, Shrewsbury, MA; Escambia County School District, Pensacola, FL; Forsyth County Schools, Cumming, GA; Scientia Ltd., Cambridge, United Kingdom; and Wisconsin Virtual School, Tomahawk, WI, have been added as parties to this venture.

Also, Korea Cyber University (KCU), Seoul, Republic of Korea; Tele-Universite, Montreal, Quebec, Canada; Laureate Online Education, Baltimore, MD; and 4C Soft, Inc., Seocho-gu, Seoul, Republic of Korea, have withdrawn as parties to this venture. In addition, Compass Knowledge Group has changed its name to EmbanetCompass, Orlando, FL.

No other changes have been made in either the membership or planned activity of the group research project. Membership in this group research project remains open, and IMS Global Learning Consortium, Inc. intends to file additional written notifications disclosing all changes in membership.

On April 7, 2000, IMS Global earning Consortium, Inc. filed its original notification pursuant to Section 6(a) of the Act. The Department of Justice published a notice in the Federal Register pursuant to Section 6(b) of the Act on September 13, 2000 (65 FR 55283).

The last notification was filed with the Department on May 9, 2011. A notice was published in the Federal Register pursuant to Section 6(b) of the Act on June 13, 2011 (76 FR 34252).

Patricia A. Brink,
Director of Civil Enforcement, Antitrust Division.

[FR Doc. 2011-26426 Filed 10-12-11; 8:45 am]

BILLING CODE M